DEPARTMENT OF HEALTH AND HUMAN SERVICES

Centers for Medicare & Medicaid Services

Notice of Hearing: Reconsideration of Disapproval of Iowa State Plan Amendment 01-19

AGENCY: Centers for Medicare & Medicaid Services (CMS), HHS

ACTION: Notice of hearing.

SUMMARY: This notice announces an administrative hearing on August 2, 2002, at 10 a.m., Plaza Room; Richard Bolling Federal Building; 601 E. Twelfth Street; Kansas City, Missouri 64106 to reconsider our decision to disapprove Iowa State Plan Amendment (SPA) 01-19.

Closing Date: Requests to participate in the hearing as a party must be received by the presiding officer by (15 days after publication).

FOR FURTHER INFORMATION CONTACT: Kathleen Scully-Hayes, Presiding Officer, CMS, C1-09-13, 7500 Security Boulevard, Baltimore, Maryland 21244, Telephone: (410) 786-2055.

SUPPLEMENTARY INFORMATION: This notice announces an administrative hearing to reconsider our decision to disapprove Iowa's State Plan Amendment (SPA) 01-19. This SPA would establish a new target group for case management services for children under age 18 in need of child welfare services.

The issues that factored into the disapproval are: (1) Duplication of payment authority under other programs, which is not consistent with guidance in the State Medicaid Manual, applicable cost principles; and statutory requirements at section 1902(a)(30)(A) of the Social Security Act (Act) for rates consistent with efficiency, economy, and quality of care; (2) insufficient description of a functional payment methodology which means that the SPA does not contain all the information necessary to determine whether it is consistent with all applicable requirements (in particular the requirements that rates be consistent with efficiency, economy, and quality of care), as mandated by 42 CFR 430.10; and (3) while not part of the original disapproval letter, restriction of beneficiary freedom of choice of providers pursuant to section 1902(a)(23) of the Act because of the limitation of providers to employees of public welfare agencies, which CMS is now including as an issue for reconsideration.

After consideration of the issues discussed above, and after consultation with the Secretary, as required by 42 CFR 430.15(c)(2), the CMS Administrator disapproved Iowa SPA 01-19.

Section 1116 of the Social Security Act (the Act) and 42 CFR part 430 establish Department procedures that provide an administrative hearing for reconsideration of a disapproval of a State plan or plan amendment. The Centers for Medicare & Medicaid Services (CMS) is required to publish a copy of the notice to a state Medicaid agency that informs the agency of the time and place of the hearing and the issues to be considered. If we subsequently notify the agency of additional issues that will be considered at the hearing, we will also publish that notice.

Any individual or group that wants to participate in the hearing as a party must petition the presiding officer within 15 days after publication of this notice, in accordance with the requirements contained at 42 CFR 430.76(b)(2). Any interested person or organization that wants to participate as amicus curiae must petition the presiding officer before the hearing begins in accordance with the requirements contained at 42 CFR 430.76(c). If the hearing is later rescheduled, the presiding officer will notify all participants.

The notice to Iowa announcing an administrative hearing to reconsider the disapproval of its SPA reads as follows:

Ms. Jessie K. Rasmussen, Director, Iowa Department of Human Services, Hoover State Office Building, Des Moines, IA 50319-0114.

Dear Ms. Rasmussen: I am responding to your request for reconsideration of the decision to disapprove Iowa State Plan Amendment (SPA) 01-19. Iowa submitted SPA 01-19 on July 13, 2001. This SPA would establish a new target group for case management services for children under age 18 in need of child welfare services.

The SPA was disapproved because of the following issues: (1) Duplication of payment authority under other programs, which is not consistent with guidance in the State Medicaid Manual, applicable cost principles, and statutory requirements at section 1902(a)(30)(A) of the Social Security Act (Act) for rates consistent with efficiency, economy, and quality of care; (2) insufficient description of a functional payment methodology, which means that the SPA does not contain all the information necessary to determine whether it is consistent with all applicable requirements (in particular the requirements that rates be consistent with efficiency, economy, and quality of care), as mandated by 42 CFR 430.10; and (3) while not part of the original disapproval letter, restriction of beneficiary freedom of choice of providers pursuant to section 1902(a)(23) of the Act because of the limitation of providers to employees of public welfare agencies, which the Centers for Medicare & Medicaid Services is now including as an issue for reconsideration.

After consideration of the issues set forth above, and after consultation with the Secretary as required under 42 CFR 430.15(c)(2), I disapproved Iowa SPA 01-19.

I am scheduling a hearing on your request for reconsideration to be held on August 2, 2002, at 10 a.m.; Plaza Room; Richard Bolling Federal Building; 601 E. Twelfth Street; Kansas City, Missouri 64106.

If this date is not acceptable, we would be glad to set another date that is mutually agreeable to the parties. The hearing will be governed by the procedures prescribed at 42 CFR, part 430.

I am designating Ms. Kathleen Scully-Hayes as the presiding officer. If these arrangements present any problems, please contact the presiding officer. In order to facilitate any communication, which may be necessary between the parties to the hearing, please notify the presiding officer to indicate acceptability of the hearing date that has been scheduled and provide names of the individuals who will represent the State at the hearing. The presiding officer may be reached at (410) 786-2055.

Sincerely,

Thomas A. Scully.

Section 1116 of the Act (42 U.S.C. section 1316); 42 CFR section 430.18) (Catalog of Federal Domestic Assistance Program No. 13.714, Medicaid Assistance Program)

Dated: June 7, 2002.
Thomas A. Scully,
Administrator, Centers for Medicare & Medicaid Services.

[FR Doc. 02-15006 Filed 6-13-02; 8:45 am]

BILLING CODE 4163-18-P